DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 12, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Report of Commodity Distribution for Disaster Relief (FNS-292A) And Report Of Disaster Supplemental Nutrition Assistance Program Benefit Issuance (FNS-292B).

OMB Control Number: 0584-0037.

Summary of Collection: State distributing agencies may release commodity or donated foods procured by the United States Department of Agriculture (USDA) to disaster organizations to provide nutritional assistance to disaster victims. Under the Code of Federal Regulations (CFR) at 7 CFR 250.69(f), a State distributing agency, including an Indian Tribal Organization (ITO) administering FNS programs, must submit its final FNS-292A to FNS within 45 days of terminating disaster operations, and under 7 CFR 250.19 (a)(b), must maintain a record of this form for three years.

State agencies may operate a Disaster Supplemental Nutrition Assistance Program (D-SNAP), a separate program from the Supplemental Nutrition Assistance Program (SNAP) to address the temporary food needs of applicants in an affected area of a State that has received a Presidential declaration of Major Disaster with Individual Assistance. According to FNS's D-SNAP Guidance handbook, a State agency must submit its final FNS-292B to FNS within 45 days of terminating D-SNAP operations, and under 7 CFR 250.19 272.1(f), must maintain a record of this form for three years.

Report of Commodity Distribution for Disaster Relief: Form FNS-292A, Report of Commodity Distribution for Disaster Relief, is used by State distributing agencies and ITOs administering the Food Distribution Program on Indian Reservations (FDPIR). State distributing agencies and ITOs use this form to provide a summary report to FNS following termination of disaster commodity assistance and to request replacement of donated foods distributed during the disaster or situation of distress. State distributing agencies and ITOS must provide this form to FNS within 45 days following termination of the disaster assistance and maintain records of this form for three years.

Form FNS-292B, Report of Disaster Supplemental Nutrition Assistance Benefit Issuance, is used by State agencies that administer D-SNAP. This form is used by State agencies to report to FNS the number of households and persons certified for Disaster Supplemental Nutrition Assistance Program (D-SNAP) benefits as well as the value of benefits issued. If approved to operate D-SNAP by FNS, a State agency must submit this form to FNS within 45 days of terminating D-SNAP operations, and maintain records of this form for three years.

Retention and Custody of Records. Distributing agencies, recipient agencies, processors, and other entities must maintain records of agreements and contracts, reports, audits, and claim actions, funds obtained as an incident of donated food distribution, and other records specifically required in this part or in other Departmental regulations, as applicable. In addition, distributing agencies must keep a record of the value of donated foods each of its school food authorities receives, in accordance with § 250.58(e), and records to demonstrate compliance with the professional standards for distributing agency directors established in § 235.11(g) of this chapter. Specific recordkeeping requirements relating to the use of donated foods in contracts with food service management companies are included in § 250.54. Failure of the distributing agency, recipient agency, processor, or other entity to comply with recordkeeping requirements must be considered prima facie evidence of improper distribution or loss of donated foods and may result in a claim against such party for the loss or misuse of donated foods, in accordance with § 250.16, or in other sanctions or corrective actions. Records relating to requirements for donated foods must be retained for a period of three years from the close of the fiscal or school year to which they pertain. However, records pertaining to claims or audits that remain unresolved in this period of time must be retained until such actions have been resolved.

Need and Use of the Information: The distributing agency must report to FNS the number and location of sites where donated foods are used in congregate meals or household distribution as these sites are established. The distributing agency must also report the types and amounts of donated foods from distributing or recipient agency storage facilities used in disaster assistance, utilizing form FNS-292A, Report of Commodity Distribution for Disaster Relief, which must be submitted electronically, within 45 days from the termination of disaster assistance. This form must also be used to request replacement of donated foods, in accordance with paragraph (g) of this section. The distributing agency must maintain records of reports and other information relating to disasters.

If the issuance of D-SNAP benefits has been approved, the distributing agency must ensure that the disaster organization obtains the information in § 250.69(d) from households receiving donated foods and reports such information to the distributing agency.

Description of Respondents: State.

Number of Respondents: 108.

Frequency of Responses: Recordkeeping; Reporting: Occasionally; Annually.

Total Burden Hours: 14.

Rachelle Ragland-Greene,
Departmental Information Collection Clearance Officer.

[FR Doc. 2024-10272 Filed 5-10-24; 8:45 am]

BILLING CODE 3410-30-P